DEPARTMENT OF HEALTH AND HUMAN SERVICES

Health Resources and Services Administration

Agency Information Collection Activities: Proposed Collection: Public Comment Request; Information Collection Request Title: Title V Maternal and Child Health Services Block Grant to States Program: Guidance and Forms for the Title V Application/Annual Report OMB No. 0915-0172—Revision

AGENCY: Health Resources and Services Administration (HRSA), Department of Health and Human Services.

ACTION: Notice.

SUMMARY: In compliance with the requirement for opportunity for public comment on proposed data collection projects, the Health Resources and Services Administration (HRSA) announces plans to submit an Information Collection Request (ICR), described below, to the Office of Management and Budget (OMB). Prior to submitting the ICR to OMB, HRSA seeks comments from the public regarding the burden estimate, below, or any other aspect of the ICR.

DATES: Comments on this ICR must be received no later than August 14, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Title V Maternal and Child Health Services Block Grant to States Program: Guidance and Forms for the Title V Application/Annual Report OMB No. 0915-0172—Revision.

Abstract: HRSA is updating the Title V Maternal and Child Health Services Block Grant to States Program: Guidance and Forms for the Title V Application/Annual Report. This Guidance is used annually by the 50 states and nine jurisdictions (hereafter referred to as “state”) in applying for Block Grants under Title V of the Social Security Act and in preparing the required Annual Report. The updates being proposed by HRSA's Maternal and Child Health Bureau for this edition of the Guidance continue to honor the federal-state partnership that is supported by the Title V Maternal and Child Health Services Block Grant and reinforce the state's role in developing a 5-year Action Plan that addresses its individual priority needs. These proposed updates build on and further refine the reporting structure and vision that was outlined in the previous edition. As such, they are intended to enable a state to provide an articulate and comprehensive description of its Title V program activities and its leadership efforts in advancing and assuring a public health system that serves the Maternal and Child Health population. HRSA's proposed updates to this edition of the Guidance were informed by comments received from State Title V program leadership, national Maternal and Child Health leaders and other stakeholders.

While retaining the current organizational structure, performance measure framework and focus on family partnership, specific updates to this edition of the Title V Maternal and Child Health Services Block Grant to States Program: Guidance and Forms for the Title V Application/Annual Report include the following:

(1) Add clarifying language/instructions for completing reporting forms and update the Glossary of terms, references and citations, as needed.

(2) Revise the content of the National Outcome/Performance Measure Detail Sheets to include the 2030 Healthy People Objectives and to provide clear links to evidence-based and-informed strategies, federally available/state-reported data and data notes.

(3) Revise the format for Form #10e, which serves as the detail sheet for the state-specific measures (i.e., Evidence-based and -Informed Strategy Measures, State Performance Measures, and State Outcome Measures).

(4) Provide continued emphasis on family partnership and engagement at the systems level and include the Family Engagement in Systems Assessment Tool and Toolkit as one possible tool for State Title V programs to consider.

(5) Share background information, resources, state examples/metrics and definitions to assist states in their efforts to advance population health strategies for children with special health care needs (CSHCN).

(6) Expand Form 5 to include infants in the state's reporting on the number (5a) and percent (5b) of CSHCN served by Title V, i.e., update the reporting to include infants and children with special health care needs (0-21 years).

(7) Enhance the narrative and performance reporting on State Title V efforts to build or expand program capacity related to Maternal and Child Health data access and cross-program data linkages, Maternal and Child Health workforce development/training, and emergency planning/preparedness.

a. Strengthen the narrative discussion on the State Systems Development Initiative (SSDI) grant and add a reporting form for annually assessing State Title V program capacity to access essential Maternal and Child Health data that supports timely program planning, monitoring, and evaluation.

b. Enhance the annual narrative reporting to include a more robust description of the State Title V workforce capacity (e.g., number/types of Full-Time Equivalents, trends/shifts in Maternal and Child Health workforce, and key external partners) and professional development efforts, while providing resources to assist State Title V programs in their ongoing assessment of Maternal and Child Health workforce and training needs.

c. Expand the annual narrative reporting to include a descriptive analysis of the State Title V program's capacity related to emergency planning and preparedness, with the intended purpose of enabling each state to better assess its capacity for responding to emerging public health threats and disasters that could potentially impact the Maternal and Child Health population.

(8) Expand and enhance the Appendices to include supportive background information, examples, resources and tools.

In consideration of the increasing demands that are being placed on State Title V programs at this time due to the COVID-19 emergency and given that no major changes to the reporting requirements are being proposed, the burden estimates presented in the table below are based on the previous burden estimates for completion of the Title V Maternal and Child Health Services Block Grant Application/Annual Report. These estimates were developed based on prior estimates and consultations with a few States. When the COVID-19 emergency subsides, HRSA can solicit additional information from states to derive more accurate burden estimates.

The addition of clarifying instructions, state examples, expanded background information and supportive resources and tools, where possible, is expected to assist State Title V programs in responding to the reporting requirements. It is anticipated that further reductions in burden will be realized through the proposed revisions to the National Outcome/Performance Measure detail sheets and to Form #10e, which states use to define their state-specific measures. These reductions in burden will be partially offset by the addition of one reporting form (formerly part of the state's annual performance reporting for the SSDI grant), which will enable State Title V programs to annually assess their progress in building/expanding Maternal and Child Health data capacity. This reporting will be coupled with expanded narrative reporting on the state's SSDI grant activities, along with other capacity-building efforts that relate to the Maternal and Child Health workforce and emergency planning and preparedness.

Need and Proposed Use of the Information: Each year, all states are required to submit an Application/Annual Report for Federal funds for their Title V Maternal and Child Health Services Block Grant to States Program to HRSA (Section 505(a) of Title V of the Social Security Act). In addition, the State Maternal and Child Health Services Block Grant programs are required to conduct a state-wide, comprehensive Needs Assessment every 5 years. The information and instructions for the preparation and submission of this Application/Annual Report are contained in the Title V Maternal and Child Health Services Block Grant to States Program: Guidance and Forms for the Title V Application/Annual Report.

Likely Respondents: By legislation (Section 505(a) of Title V of the Social Security Act), the Maternal and Child Health Services Block Grant Application/Annual Report must be developed by, or in consultation with, the State Maternal and Child Health agency.

Burden Statement: Burden in this context means the time expended by persons to generate, maintain, retain, disclose or provide the information requested. This estimate includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:
Form name | Number of respondents | Number of responses per respondent | Total responses | Burden per response (in hours) | Total burden hours
Application and Annual Report without Five-Year Needs Assessment Summary | 59 | 1 | 59 | 120 | 7,080
Average Total Annual Burden | 59 | — | 59 | — | 7,080

States will use the updated edition of the Title V Maternal and Child Health Services Block Grant to States Program: Guidance and Forms for the Title V Application/Annual Report to prepare and submit the fiscal year (FY) 2022, FY 2023 and FY 2024 Applications/FY 2020, FY 2021 and FY 2022 Annual Reports, which will not contain the 5-Year Needs Assessment Summary. States will submit the next Five-Year Needs Assessment Summary in 2025, as part of the FY 2026 Application/FY 2024 Annual Report. Instructions for preparing the FY 2025, FY 2026 and FY 2027 Applications/FY 2023, FY 2024 and FY 2025 Annual Reports will be provided in the subsequent edition of the Application/Annual Report Guidance.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-12786 Filed 6-12-20; 8:45 am]

BILLING CODE 4165-15-P